TENNESSEE VALLEY AUTHORITY

Meeting Notice (Meeting No. 1546)

AGENCY: Tennessee Valley Authority

Time and Date: 9 a.m. (EDT), July 30, 2003, City of Chickamauga Civic Center, 100 Euclid Avenue, Chickamauga, Georgia.

Status: Open.

Agenda

Approval of minutes of meeting held on May 21, 2003.

New Business

C—Energy

C1. Delegation of authority to the Executive Vice President, Fossil Power Group, to enter into a spot coal contract with Massey Utility Sales Company to supply low-sulfur coal for 17 months to Kingston Fossil Plant.

C2. Delegation of authority to the Executive Vice President, Fossil Power Group, to enter into a 3-year contract with CSX Transportation to provide rail transportation of coal to Widows Creek Fossil Plant.

C3. Delegation of authority to the Executive Vice President, Fossil Power Group, to enter into a term coal contract with Peabody Coalsales Company for sub-bituminous Powder River Basin coal to supply various TVA fossil plants.

C4. Supplement to blanket Contract Nos. 453 and 454 with Performance Contracting, Inc., and G&A Environmental to provide asbestos and nonasbestos vacuum services for various TVA fossil plants.

C5. Supplement to Contract 99999563 with Day & Zimmermann NPS, Inc., for management and craft labor for the planning and execution of modification and supplemental maintenance work and multiple selective catalytic reduction projects at TVA assigned fossil plants.

C6. Supplement to contract with Framatome ANP for nuclear fuel and fuel engineering services for Sequoyah Nuclear Plant.

C7. Supplement to contract with Flowserve Corporation for pumps and pump replacement parts at any TVA nuclear plant.

C8. Supplement to contract with Westinghouse Electric Company LLC for nuclear fuel and fuel engineering services at Watts Bar Nuclear Plant.

C9. Supplement to contract with Framatome ANP for refuel floor support services and reactor component inspections at Browns Ferry Nuclear Plant Units 2 and 3.

C10. Indefinite quantity term contract with Ritz Instrument Transformers for the supply of instrument transformers.

E—Real Property Transactions

E1. Sale of permanent easements to Richard L. Pelham, affecting approximately 0.13 acre of land on Chatuge Reservoir in Towns County, Georgia, to allow a portion of an existing condominium and sewer line to remain without future title concerns, Tract Nos. XCHR-77B and XCHR-78S.

E2. Grant of permanent easements for a raw water intake and water distribution lines to Franklin County Water Services Authority, affecting approximately 5.9 acres of land on Bear Creek Reservoir in Franklin County, Alabama, Tract No. XTBCBR-2P.

E3. Grant of a permanent easement to the State of Tennessee for a highway improvement project, affecting approximately 0.18 acre of land on Watts Bar Reservoir in Roane County, Tennessee, Tract No. XTWBR-146H.

E4. Grant of a permanent easement to the State of Tennessee for a highway improvement project, affecting approximately 1.9 acres of land on Chickamauga Reservoir in Hamilton County, Tennessee, Tract No. XTCR-201H.

E5. Sale of a noncommercial, nonexclusive permanent easement to Russell A. House for construction and maintenance of recreational water-use facilities, affecting approximately 0.15 acre of land on Tellico Reservoir in Monroe County, Tennessee, Tract No. XTELR-239RE.

E6. Grant of noncommercial, nonexclusive permanent easements to Southern Heritage, LLC, and four private property owners for construction and maintenance of recreational water use facilities, affecting approximately 7.68 acres of land on Guntersville Reservoir in Marshall and Jackson Counties, Alabama, Tract Nos. XGR-752RE, XGR-753RE, XGR-754RE, XGR-755RE, XGR-756RE, and XGR-757RE, in exchange for approximately 71 acres of land on Guntersville Reservoir in Marshall and Jackson Counties, Alabama, Tract No. GR-1882, and change in the land use allocation of the Guntersville Reservoir Land Management Plan to effect these changes.

E7. Grant of noncommercial, nonexclusive permanent easements to Scott Roberts, Ken Herrick, and Harold Daniels for construction and maintenance of recreational water use facilities, affecting approximately 1.3 acres of land on Chickamauga Reservoir in Hamilton County, Tennessee, Tract Nos. XCR-701RE, XCR-702RE, and XCR-703RE, in exchange for approximately 7.3 acres of land on Chickamauga Reservoir in Hamilton County, Tennessee, Tract No. CR-1599, and change in the land use allocation of the Chickamauga Reservoir Land Management Plan to effect these changes.

E8. Sale of approximately 116.4 acres of land to LTR Properties, Inc. (Rarity Communities), Tract No. XTELR-236, for residential and commercial recreation development; grant of noncommercial, nonexclusive permanent easements affecting approximately 273.6 acres in Loudon and Monroe Counties, Tennessee, to the Tellico Reservoir Development Agency, Tract Nos. XTTELR-44RE and XTTELR-45RE; and land allocation changes to the Tellico Reservoir Land Management Plan as follows: (1) Release the natural resource conservation and recreation allocation from the Tellico Reservoir Land Management Plan of the approximately 116.4 acres proposed to be sold to Rarity Communities; (2) Change the allocation of 7.3 acres, which is the remaining TVA property fronting the 116.4 acres from recreation to natural resource conservation, which will provide a protective buffer for wetlands and water quality; (3) Allocate the 256 acres of land to be conveyed to TVA by Rarity Communities as recreation (117 acres) and natural resource conservation (139 acres); and (4) Change the allocation of the 17.6 acres where Rarity Communities will be developing public recreational facilities as part of the mitigation from natural resource conservation to recreation at the location.

E9. Nineteen-year commercial recreation lease to South Sauty Creek Resort, Inc., affecting approximately 34 acres of land on Guntersville Reservoir in Jackson County, Alabama, Tract No. XGR-751L.

E10. Deed modification of certain deed restrictions affecting approximately 0.9 acre of former TVA land on Chickamauga Reservoir in Rhea County, Tennessee, Tract No. XCR-188, S.5X.

F—Other

F1. Approval to file condemnation cases to acquire transmission line easements and rights of way affecting Tract Nos. SBFP-66, Sebastopol Switching Station, Scott County, Mississippi; and Tract No. WPSVT-8, Wartrace Primary-Shelbyville No. 2 (North) Tap, Bedford County, Tennessee.

Information Items

1. Approval of delegation of authority to the Chief Financial Officer and the Senior Vice President and Treasurer, or a designee(s), to enter into lease financing and related arrangements with respect to certain categories of computer and related software and equipment.

2. Approval of the issuance, sale, and delivery of TVA Power Bonds.

3. Approval of the issuance, sale, and delivery of TVA Power Bonds, and delegation of authority to amend the International Swaps and Derivatives Association, Inc., Credit Support Annex between TVA and Morgan Stanley Capital Services, Inc., and to enter into currency swap arrangements with Morgan Stanley.

4. Approval of the sale of a 30-year term easement for a natural gas pipeline to East Tennessee Natural Gas Company, affecting approximately 0. 3 acre of TVA land in Sullivan County, Tennessee, Tract No. XFHR-35P.

5. Approval of amendments to TVA's Section 26a Regulations.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: July 23, 2003.
Maureen H. Dunn,
General Counsel and Secretary.

[FR Doc. 03-19193 Filed 7-24-03; 10:15 am]

BILLING CODE 8120-08-P